DEPARTMENT OF THE TREASURY

Departmental Offices; Privacy Act of 1974; System of Records

AGENCY: Office of the Treasury Inspector General for Tax Administration, Treasury.

ACTION: Notice of alteration of Privacy Act system of records.

SUMMARY: The Department of the Treasury, Office of the Treasury Inspector General for Tax Administration (TIGTA), gives notice of a proposed alteration to the system of records entitled “Treasury/DO .311-TIGTA Office of Investigations Files,” which is subject to the Privacy Act of 1974, as amended (5 U.S.C. 552a). The system was last published in its entirety in the Federal Register on May 22, 2003, at 68 FR 28046.

DATES: Comments must be received no later than December 27, 2005. The proposed routine use will be effective January 4, 2006, unless the Department receives comments that would result in a contrary determination.

ADDRESSES: Comments should be sent to Elissa Sissman, Assistant Chief Counsel, Office of the Treasury Inspector General for Tax Administration, 1125 15th Street, NW., Room 700A, Washington, DC 20005, 202-622-4068. Comments will be made available for inspection upon written request.

FOR FURTHER INFORMATION CONTACT: Elissa Sissman, Assistant Chief Counsel, Office of the Treasury Inspector General for Tax Administration, 1125 15th Street, NW., Room 700A, Washington, DC 20005, 202-622-4068.

SUPPLEMENTARY INFORMATION: The Treasury Inspector General for Tax Administration (TIGTA) was established pursuant to the Internal Revenue Service Restructuring and Reform Act of 1998. TIGTA's duties and operating authority are set forth in the Inspector General Act of 1978, 5 U.S.C app. 3. TIGTA exercises all duties and responsibilities of an Inspector General with respect to the Department and the Secretary on all matters relating to the Internal Revenue Service (IRS). TIGTA conducts, supervises, and coordinates audits and investigations relating to the programs and operations of the IRS and related entities.

An integral part of TIGTA's mission is to detect fraud, waste, abuse, and instances of compromised employee integrity, including criminal misconduct. Mission success depends in large part on the willingness of the public and Internal Revenue Service employees to report suspected improper or potentially criminal conduct. New routine use (12) will permit TIGTA officials to apprise complainants and/or victims, or their representatives, of the status or results of the investigation or case arising from the matters of which they complained or were the victim, and, once a subject had exhausted all reasonable appeals, any action taken.

This new routine use is consistent with the purposes for which the information is collected in this system. Like other executive branch components, TIGTA has responsibilities to protect individuals' privacy. Providing upon request the limited information proposed here maintains an appropriate balance between the right to privacy of the individual being investigated and the interests of the public and complainant/victim in ensuring that TIGTA appropriately handled the allegations made.

The report of an altered system of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

TIGTA proposes to alter system of records Treasury/DO .311-TIGTA Office of Investigations Files, as follows:

Treasury/DO .311

System Name:

TIGTA Office of Investigations Files.

* * * * *

Routine Uses of Records Maintained in the System, Including Categories of Users and Purposes of Such Uses:

* * * * *

Description of change: The period “.” at the end of routine use (11) is replaced with a semicolon “;”, and the following routine use is added at the end thereof:

“(12) Disclose information to complainants, victims, or their representatives (defined for purposes here to be a complainant's or victim's legal counsel or a Senator or Representative whose assistance the complainant or victim has solicited) concerning the status and/or results of the investigation or case arising from the matters of which they complained and/or of which they were a victim, including, once the investigative subject has exhausted all reasonable appeals, any action taken. Information concerning the status of the investigation or case is limited strictly to whether the investigation or case is open or closed. Information concerning the results of the investigation or case is limited strictly to whether the allegations made in the complaint were substantiated or were not substantiated and, if the subject has exhausted all reasonable appeals, any action taken.”

* * * * *

Dated: November 16, 2005.
Sandra L. Pack,
Assistant Secretary for Management and Chief Financial Officer.

[FR Doc. 05-23241 Filed 11-23-05; 8:45 am]

BILLING CODE 4811-37-P